ENVIRONMENTAL PROTECTION AGENCY

[EPA-HQ-OEM-2015-0725; FRL-9342-01-OLEM]

Proposed Information Collection Request; Comment Request; Risk Management Program Requirements and Petitions To Modify the List of Regulated Substances Under Section 112(r) of the Clean Air Act, EPA ICR Number 1656.18, OMB Control Number 2050-0144

AGENCY: Environmental Protection Agency (EPA).

ACTION: Notice.

SUMMARY: The Environmental Protection Agency (EPA) is planning to submit a request to renew and consolidate existing approved Information Collection Requests (ICRs) to the Office of Management and Budget (OMB) for review and approval in accordance with the Paperwork Reduction Act. Before doing so, EPA is soliciting public comments on specific aspects of the proposed information collection as described in Supplementary Information. This is a proposed renewal of the Risk Management Program Requirements and Petitions to Modify the List of Regulated Substances under section 112(r) of the Clean Air Act ICR (EPA ICR Number 1656.17, OMB Control Number 2050-0144), which is approved through November 30, 2022. This ICR renewal also consolidates, within OMB Control Number 2050-0144, the information collection burden and costs associated with the Accidental Release Prevention Requirements: Risk Management Programs under the Clean Air Act (Final Reconsideration Rule) ICR (EPA ICR Number 2537.06, OMB Control Number 2050-0216). Once this renewal ICR is approved, OMB Control Number 2050-0216 will be discontinued. An agency may not conduct or sponsor and a person is not required to respond to a collection of information unless it displays a currently valid OMB control number.

DATES: Comments must be submitted on or before February 14, 2022.

ADDRESSES: Submit your comments, referencing Docket ID No. EPA-HQ-OEM-2015-0725, to EPA online using www.regulations.gov (our preferred method) or by mail to EPA Docket Center, Environmental Protection Agency, Mail Code 28221T, 1200 Pennsylvania Ave. NW, Washington, DC 20460, or to OMB via email to oira_submission@omb.eop.gov. Address comments to OMB Desk Officer for EPA.

EPA's policy is that all comments received will be included in the public docket without change, including any personal information provided, unless the comment includes profanity, threats, information claimed to be Confidential Business Information (CBI) or other information whose disclosure is restricted by statute.

FOR FURTHER INFORMATION CONTACT: Wendy Hoffman, Office of Emergency Management, Mail Code 5104A, Environmental Protection Agency, 1200 Pennsylvania Ave. NW, Washington, DC 20460; telephone number: (202) 564-8794; email address: hoffman.wendy@epa.gov.

SUPPLEMENTARY INFORMATION: Supporting documents, which explain in detail the information that EPA will be collecting, are available in the public docket for this ICR. The docket can be viewed online at http://www.regulations.gov. Out of an abundance of caution for members of the public and our staff, the EPA Docket Center and Reading Room is closed to the public, with limited exceptions, to reduce the risk of transmitting COVID-19. Our Docket Center staff will continue to provide remote customer service via email, phone, and webform. For further information about the EPA's public docket, Docket Center services and the current status, please visit us online at https://www.epa.gov/dockets. The telephone number for the Docket Center is (202) 566-1744.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR, as appropriate. The final ICR package will then be submitted to OMB for review and approval. At that time, EPA will issue another Federal Register notice to announce the submission of the ICR to OMB and the opportunity to submit additional comments to OMB.

Abstract: This information collection is authorized by the following Clean Air Act (CAA) sections: For on-site documentation of Risk Management Plans (RMPs), 112(r)(7)(B)(i) and (ii); for submitting an RMP, 112(r)(7)(B)(iii); and, for on-site documentation and submittal of RMPs, 114(a)(1). State and local authorities use the information in RMPs to modify and enhance their community response plans. The agencies implementing the Risk Management Program rule use RMPs to evaluate compliance with the Chemical Accident Prevention Provisions in 40 CFR part 68 and to identify sources for inspection that may pose significant risks to the community. Citizens may use the information to assess and address chemical hazards in their communities and to respond appropriately in the event of a release of a regulated substance.

This request for comments relates to the renewal of EPA ICR Number 1656.17, OMB Control Number 2050-0144, which covers the Risk Management Program and is being consolidated with EPA ICR Number 2537.06, OMB Control Number 2050-0216, which represents the Risk Management Program information collection requirements impacted by the December 19, 2019 (84 FR 69834) Final Risk Management Program Reconsideration Rule (Reconsideration Rule). The Reconsideration Rule modified changes made to the Risk Management Program by the January 13, 2017 (82 FR 4594) Final Risk Management Program Amendments Rule (Amendments Rule). The consolidation covers information collection requirements from the Amendments Rule that were retained or retained with modification in the Reconsideration Rule. Once this renewal ICR is approved, OMB Control Number 2050-0216 will be discontinued.

The burden estimates, numbers and types of respondents, wage rates and unit and total costs for this ICR renewal will be revised and updated, if needed, based on comments received during the 60-day comment period.

Form Numbers: None.

Respondents/affected entities: Stationary sources that manufacture, react, mix, store, or use substances in processes that require equipment designed, constructed, installed, operated, or maintained in specific ways to prevent accidental releases and ensure safe operations.

Respondent's obligation to respond: Mandatory under CAA section 112(r)(7)(B)(iii).

Estimated number of respondents: 12,556.

Frequency of response: Sources are required to register and submit an RMP once every five years unless there are significant changes in the information provided.

Total estimated burden: 773,876 hours (per year). Burden is defined at 5 CFR 1320.03(b).

Total estimated cost: $51,650,227 (per year), which includes $25,850 annualized operation & maintenance costs. No capital costs are associated with this ICR.

Changes in Estimates: The estimates presented above reflect EPA's best available estimates based on the currently approved ICRs. The estimated number of respondents comes from the number of stationary sources and implementing agencies subject to the information collection requirements in OMB Control Number 2050-0216. The total burden and cost estimates were calculated by adding the burden or cost from OMB Control Number 2050-0144 to the burden or cost from the Amendments rule provisions that were retained or retained with modification in OMB Control Number 2050-0216. For example, for the total estimated burden, 66,793 hours (per year) from OMB Control Number 2050-0144 were added to 707,083 hours (per year) that were retained or retained with modification from the Amendments rule in OMB Control Number 2050-0216. The number of respondents is likely to decrease because more facilities deregistered than became new sources since the previous renewal. Similarly, the annual respondent burden hours are likely to decrease due to anticipated changes in the respondent universe. Any change in burden or cost resulting from the 60-day public comment period will be described in this section when the updated ICR Supporting Statement is completed.

Donna Salyer,
Director, Office of Emergency Management.

[FR Doc. 2021-26965 Filed 12-13-21; 8:45 am]

BILLING CODE 6560-50-P